DEPARTMENT OF COMMERCE

International Trade Administration

[C-351-833, C-122-841, C-428-833, C-274-805, C-489-809]

Carbon and Certain Alloy Steel Wire Rod From Brazil, Canada, Germany, Trinidad and Tobago, and Turkey: Postponement of Preliminary Determinations of Countervailing Duty Investigations

AGENCY: Import Administration, International Trade Administration, Department of Commerce.

ACTION: Notice of postponement of preliminary determinations.

SUMMARY: The Department of Commerce is postponing the preliminary determinations of the countervailing duty investigations of carbon and certain alloy steel wire rod from Brazil, Canada, Germany, Trinidad & Tobago, and Turkey. For each investigation the period of investigation is January 1, 2000 through December 31, 2000. These postponements are made pursuant to section 703(c)(2) of the Tariff Act of 1930, as amended by the Uruguay Round Agreements Act.

EFFECTIVE DATE: November 14, 2001.

FOR FURTHER INFORMATION CONTACT: Melani Miller (Brazil and Trinidad and Tobago) at 202-482-0116; Sally Hastings (Canada) at 202-482-3464; Annika O'Hara or Melanie Brown (Germany) at 202-482-3798 or 202-482-4987, respectively; and Jennifer D. Jones (Turkey) at 202-482-4194. Import Administration, International Trade Administration, U.S. Department of Commerce, Room 3099, 14th Street and Constitution Avenue, NW, Washington, DC 20230.

Postponement of Preliminary Determinations

The Applicable Statute and Regulations

Unless otherwise indicated, all citations to the statute are references to the provisions effective January 1, 1995, the effective date of the amendments made to the Tariff Act of 1930 (“the Act”) by the Uruguay Round Agreements Act. In addition, unless otherwise indicated, all citations to the Department of Commerce's (“Department”) regulations are to 19 CFR part 351 (2001).

Postponement

On September 24, 2001, the Department initiated the countervailing duty investigations of carbon and certain alloy steel wire rod from Brazil, Canada, Germany, Trinidad and Tobago, and Turkey. See Notice of Initiation of Countervailing Duty Investigations: Carbon and Certain Alloy Steel Wire Rod from Brazil, Canada, Germany, Trinidad and Tobago, and Turkey, 66 FR 49931 (October 1, 2001). Currently, the preliminary determinations must be issued by November 28, 2001.

On November 1, 2001, the petitioners made timely requests pursuant to section 703(c)(1)(A) of the Act and 19 CFR 351.205(e) of the Department's regulations for postponement of the preliminary determinations. The petitioners requested postponement until February 1, 2002 in order to allow time for the petitioners to submit comments regarding the respondents' questionnaire responses and to allow time for the Department to analyze these responses.

The petitioners' requests for these postponements were timely, and the Department finds no compelling reason to deny the requests. Therefore, pursuant to 703(c) of the Act and 19 CFR 351.205(b)(2), the Department is postponing the preliminary determinations until no later than February 1, 2002.

We are issuing and publishing this notice in accordance with sections 703(c)(2) and 777(i)(1) of the Act.

Dated: November 6, 2001.
Faryar Shirzad,
Assistant Secretary for Import Administration.

[FR Doc. 01-28531 Filed 11-13-01; 8:45 am]

BILLING CODE 3510-DS-P